DEPARTMENT OF THE INTERIOR

Bureau of Indian Affairs

25 CFR Part 83

[BIA-2022-0001; 256A2100DD AAKP300000 A0A501010.000000]

RIN 1076-AF67

Federal Acknowledgment of American Indian Tribes

AGENCY: Bureau of Indian Affairs, Interior.

ACTION: Final rule; delay of effective date.

SUMMARY: On January 15, 2025, the Department of Interior (Department) published in the Federal Register a final rule revising regulations governing the Federal acknowledgment process. The rule was set to take effect February 14, 2025; however, the department is delaying that date. The new effective date is March 21, 2025.

DATES: The effective date for the final rule published on January 15, 2025, at 90 FR 3627, is delayed to March 21, 2025.

FOR FURTHER INFORMATION CONTACT: Oliver Whaley, Director, Office of Regulatory Affairs and Collaborative Action, Office of the Assistant Secretary—Indian Affairs (AS-IA), (202) 738-6065. Individuals in the United States who are deaf, deafblind, hard of hearing, or have a speech disability may dial 711 (TTY, TDD, or TeleBraille) to access telecommunications relay services.

SUPPLEMENTARY INFORMATION: On January 15, 2025, the Department of the Interior published a final rule creating a conditional, time-limited opportunity for petitioners denied Federal acknowledgment to re-petition, through implementation of a re-petition authorization process. The final rule appends a new subpart titled “Subpart D—Re-Petition Authorization Process” to the end of the current part 83 regulations. The new subpart applies to “unsuccessful petitioner[s],” which is a new term defined in § 83.1. The final rule also inserts new definitions for “re-petition authorization process” and “re-petitioning” in § 83.1. Additionally, the final rule revises 25 CFR 83.4(d), the provision that previously prohibited re-petitioning. The provision as revised notes a limited exception to the re-petition ban for unsuccessful petitioners that meet the conditions of §§ 83.47 through 83.49, as determined by AS-IA in the re-petition authorization process.

On January 20, 2025, after publication of the final rule, the President of the United States issued a Presidential Memorandum (PM) titled “Regulatory Freeze Pending Review.” ¹ The PM orders all executive departments and agencies to consider postponing for 60 days from the date of the PM the effective date for any rules published in the Federal Register that have not taken effect, “for the purpose of reviewing any questions of fact, law, and policy that the rules may raise.” ²

¹ Presidential Memorandum on Regulatory Freeze Pending Review (Jan. 20, 2025), https://www.whitehouse.gov/presidential-actions/2025/01/regulatory-freeze-pending-review/.

² Id.

Here, good cause exists for postponing the effective date of the final rule for 60 days from the date of the PM, without subjecting the postponement to notice-and-comment procedure. As a preliminary matter, notice-and-comment procedure would be impracticable. The time frame for the receipt and review of comments would necessarily extend past the original, February 14 effective date and likely past the new, March 21 effective date as well.

Additionally, a 35-day postponement is reasonable. Pursuant to 25 U.S.C. 2, the Secretary of the Interior has “the management of all Indian affairs and of all matters arising out of Indian relations,” including the administration of the Department's Federal acknowledgment process.³ Whether to allow re-petitioning is a policy determination that falls within the scope of “the management of all Indian affairs,” and the new administration needs time to review the policy determination, consistent with the direction set forth in the PM.

³ See, e.g., Muwekma Ohlone Tribe v. Salazar, 708 F.3d 209, 211 (D.C. Cir. 2013); James v. United States Dep't of Health & Human Servs., 824 F.2d 1132, 1137 (D.C. Cir. 1987).

For the reasons stated above, the final rule is now effective on March 21, 2025.

Bryan Mercier,
Director, Bureau of Indian Affairs Exercising the delegated authority of the Assistant Secretary—Indian Affairs.

[FR Doc. 2025-02558 Filed 2-12-25; 8:45 am]

BILLING CODE 4337-15-P